DEPARTMENT OF HEALTH AND HUMAN SERVICES

Health Resources and Services Administration

Meeting of the CDC/HRSA Advisory Committee on HIV, Viral Hepatitis and STD Prevention and Treatment

AGENCY: Health Resources and Services Administration (HRSA), Department of Health and Human Services (HHS).

ACTION: Notice.

SUMMARY: In accordance with the Federal Advisory Committee Act, the Centers for Disease Control and Prevention (CDC)/HRSA Advisory Committee on HIV, Viral Hepatitis and STD Prevention and Treatment (CHAC) has scheduled a public meeting. Information about CHAC can be found on the CHAC website at https://www.cdc.gov/maso/facm/facmCHACHSPT.html. Meeting information and the agenda can be found at http://www.chachspt.com.

DATES: November 13, 2019, 8:30 a.m.-5:00 p.m. Eastern Time (ET) and November 14, 2019, 8:30 a.m.-3:00 p.m. Eastern Time (ET).

ADDRESSES: This meeting will be held in-person and by webinar. The address for the meeting is 5600 Fishers Lane, Rockville, Maryland 20857. While this meeting is open to the public, advance registration is required to attend in-person. Please visit the meeting information website to register: http://www.chachspt.com. The deadline for online registration is 12:00 p.m. ET on November 6, 2019. To access the meeting virtually, please use the information below. Registration is encouraged, but not required, for virtual attendance.

• Webinar link: https://hrsa.connectsolutions.com/fall-2019-chac-meeting/

• Conference call-in number: 888-469-0878 Passcode: 8802805

FOR FURTHER INFORMATION CONTACT: Theresa Jumento, Senior Public Health Advisor, HIV/AIDS Bureau, HRSA, 5600 Fishers Lane, Rockville, Maryland 20857; 301-443-5807; or CHACAdvisoryComm@hrsa.gov.

SUPPLEMENTARY INFORMATION: CHAC was established under Section 222 of the Public Health Service Act, [42 U.S.C. Section 217a], as amended.

The purpose of CHAC is to advise the Secretary, HHS; the Director, CDC; and the Administrator, HRSA regarding objectives, strategies, policies, and priorities for HIV, viral hepatitis, and other STDs; prevention and treatment efforts including surveillance of HIV infection, viral hepatitis, and other STDs, and related behaviors; epidemiologic, behavioral, health services, and laboratory research on HIV, viral hepatitis, and other STDs; identification of policy issues related to HIV/viral hepatitis/STD professional eduction, patient healthcare delivery, and prevention services; Agency policies about prevention of HIV, viral hepatitis and other STDs; treatment, healthcare delivery, and research and training; strategic issues influencing the ability of CDC and HRSA to fulfill their missions of providing prevention and treatment services; programmatic efforts to prevent and treat HIV, viral hepatitis, and other STDs; and support to the Agencies in their developoment of responses to emerging health needs related to HIV, viral hepatitis, and other STDs.

During the November 13-14, 2019 meeting, CHAC will discuss issues related to the President's initiative on “Ending the HIV Epidemic: A Plan for America,” building community capacity, strategies for engaging people with HIV who are out of care, models of clinical care, workforce issues, pre-exposure prophylaxis services in community health centers, and pending committee reports. Agenda items are subject to change as priorities dictate. Refer to the CHAC meeting information website for any updated information concerning the meeting.

Members of the public will have the opportunity to provide comments. Requests to offer oral comments will be accepted in the order they are received and may be limited as time allows. Public participants may also submit written statements as further described below. To submit written comments or to request time for an oral comment at the meeting, please register online by 12:00 p.m. ET on November 6, 2019. For additional details, visit the meeting information website at http://www.chachspt.com. Individuals who plan to attend and need special assistance or another reasonable accommodation should notify Theresa Jumento at the address and phone number listed above at least 10 business days prior to the meeting. Since this meeting occurs in a federal government building, attendees must go through a security check to enter the building. Non-U.S. Citizen attendees must notify HRSA of their planned attendance at least 20 business days prior to the meeting in order to facilitate their entry into the building. All attendees are required to present government-issued identification prior to entry.

Maria G. Button,
Director, Division of the Executive Secretariat.

[FR Doc. 2019-19776 Filed 9-11-19; 8:45 am]

BILLING CODE 4165-15-P